DEPARTMENT OF COMMERCE

National Oceanic and Atmospheric Administration

RIN 0648-XE285

Presidential Task Force on Combating Illegal Unreported and Unregulated (IUU) Fishing and Seafood Fraud Action Plan

AGENCY: National Marine Fisheries Service (NMFS), National Oceanic and Atmospheric Administration (NOAA), Commerce.

ACTION: Notice of Determination.

SUMMARY: The National Ocean Council Committee on IUU Fishing and Seafood Fraud (NOC Committee) has finalized principles for determining seafood species at risk of IUU fishing and seafood fraud (at-risk species) and a list of at-risk species developed using the principles.

DATES: List of principles and at-risk species is final upon October 30, 2015.

FOR FURTHER INFORMATION CONTACT: Danielle Rioux, Office of Sustainable Fisheries, National Marine Fisheries Service (phone 301-427-8516, or email Danielle.Rioux@noaa.gov).

SUPPLEMENTARY INFORMATION: According to NOAA statistics, in 2013, U.S. fishers landed 9.9 billion pounds of fish and shellfish worth $5.5 billion. Illegal, unreported, and unregulated (IUU) fishing and seafood fraud undermine the sustainability of U.S. and global seafood stocks and negatively impact general ecosystem health. At the same time, IUU fishing and fraudulent seafood products distort legal markets and unfairly compete with the products of law-abiding fishers and seafood industries globally. On March 15, 2015, the Presidential Task Force on Combating IUU Fishing and Seafood Fraud (Task Force), co-chaired by the Departments of Commerce and State, took an historic step to address these issues and published its Action Plan for Implementing Task Force Recommendations (Action Plan).

The Action Plan

(http://www.nmfs.noaa.gov/ia/iuu/noaa_taskforce_report_final.pdf) articulates the proactive steps that Federal agencies will take to implement the recommendations the Task Force made to the President in December 2014 on a comprehensive framework of integrated programs to combat IUU fishing and seafood fraud. The Action Plan identifies actions that will strengthen enforcement, create and expand partnerships with state and local governments, industry, and non-governmental organizations, and create a risk-based traceability program to track seafood from harvest to entry into U.S. commerce, including through the use of existing traceability mechanisms. The scope of action anticipated through the Action Plan approaches IUU and fraudulently-labeled seafood at the Flag State, Port State, and Market State levels. The work the Task Force began continues under the oversight of the NOC Committee, established in April 2015.

This final notice is one of several steps in the plan to implement Task Force Recommendations 14 and 15, identifying “species of fish or seafood that are presently of particular concern because they are currently subject to significant seafood fraud or because they are at significant risk of being caught by IUU fishing.” To begin implementing these recommendations, the NOC Committee created a Working Group (Working Group), led by NOAA and composed of members from partner agencies: Department of State, Food and Drug Administration, Department of Homeland Security, Customs and Border Protection, and the Office of the U.S. Trade Representative.

As the first step, the NOC Committee, through the Working Group, solicited public input through a Federal Register notice (80 FR 24246, April 30, 2015) on what principles should be used to determine the seafood species at risk of IUU fishing or seafood fraud. Public input was received both in writing and through webinars. Taking into consideration comments received, the Working Group developed draft principles and a draft list of at-risk species based on those principles. These principles and the draft list were then published in a Federal Register notice (80 FR 45955, August 3, 2015) to solicit additional public comment. This public comment period was extended through Federal Register notice (80 FR 50270, August 19, 2015) until September 11, 2015. The Working Group considered public input received during the public comment period and developed final principles to determine seafood species at risk of IUU fishing or seafood fraud and a final recommended list of at risk species.

This publication is the NOC Committee's transmission of the list of species at risk of IUU fishing and seafood fraud to the agencies charged with implementing the Task Force recommendations for appropriate action, as requested in the Action Plan, as well as notification to the public. The list does not impose any legal requirements, but will inform the first phase of the risk-based seafood traceability program, as described in the Action Plan. The traceability program itself will be developed through notice-and-comment rulemaking, pursuant to the Magnuson-Stevens Fishery Conservation and Management Act, and that rulemaking will address data requirements, the design of the program, and the species to which the first phase of the program will be applied. Implementation and enforcement of the traceability program may require engagement of additional U.S. agencies.

Principles for Determining Species at Risk of IUU Fishing and Seafood Fraud

To develop principles, the Working Group considered public comments received through both public comment periods. The Working Group evaluated the strength and utility of various principles as indicators for potential risk of IUU fishing or seafood fraud as well as their measurability and the robustness of data available to assess them. The Working Group minimized overlap of principles to ensure that a species' alignment with several principles does not overstate associated risk, and also to distinguish between risk of IUU fishing and risk of seafood fraud. The Working Group then applied the principles to a base list of species to develop the list of species at risk of IUU fishing or seafood fraud.

Based on the Working Group's evaluation and synthesis of comments received through both public comment periods, the final principles are listed below. Species and species groups were evaluated using these principles:

• Enforcement Capability: The existence and effectiveness of enforcement capability of the United States and other countries, which includes both the existing legal authority to enforce fisheries management laws and regulations and the capacity (e.g., resources, infrastructure, etc.) to enforce those laws and regulations throughout the geographic range of fishing activity for a species.

• Catch Documentation Scheme: The existence of a catch documentation scheme throughout the geographic range of fishing activity for a species, and the effectiveness of that scheme if it exists, including whether a lack of proper documentation leads to discrepancies between total allowable catch and trade volume of a species.

• Complexity of the Chain of Custody and Processing: Consideration of transparency of chain-of-custody for a species, such as the level of transshipment (in this context, the transfer of fish from one vessel to another, either at sea or in port) for a species, as well as the complexity of the supply chain and extent of processing (e.g., fish that goes across multiple country borders or fish that is commonly exported for processing or that is sold as fillet block vs. whole fish) as it pertains to comingling of species or catch.

• Species Misrepresentation: The history of known misrepresentation of a species related to substitution with another species, focused on mislabeling or other forms of misrepresentation of seafood products.

• Mislabeling or Other Misrepresentation: The history of known misrepresentation of information other than mislabeling related to species identification (e.g., customs misclassification or misrepresentation related to country of origin, whether product is wild vs. aquaculture, or product weight).

• History of Violations: The history of violations of fisheries laws and regulations in the United States and abroad for a species, particularly those related to IUU fishing.

• Human Health Risks: History of mislabeling, other forms of misrepresentation, or species substitution leading to human health concerns for consumers, including in particular, incidents when misrepresentation of product introduced human health concerns due to different production, harvest or handling standards, or when higher levels of harmful pathogens or other toxins were introduced directly from the substituted species.

Application of Principles

Given the large number of seafood species that are domestically landed or imported, the Working Group created a base list of species for evaluation using several factors: (1) The value of domestic landings and imports (all seafood species with an imported or domestically-landed value over $100 million USD in 2014 were included on the base list); (2) species identified by the Working Group due to a high cost of product per pound (which could increase the incentive for IUU fishing and fraud); and (3) species proposed based on the expertise of representatives from the Working Group agencies. In some cases, the Working Group combined related species together in its analysis (e.g., shrimp), because the supporting data utilized nomenclature which made further analytical breakouts unworkable. In other cases, the working group was able to target species within larger species groups (e.g. red snapper), based on commercial and marketplace significance.

The Working Group determined that data from the past five years was the appropriate timeframe for decision-making because a longer timeframe might not reflect improvements that have been made in some fisheries over time and a shorter timeframe might not include sufficient data to identify risks to certain species.

The resulting list of species and groups analyzed by applying the principles listed above is set forth below. Note that this list is not the list of at-risk species to which the first phase of the traceability program will be applied:

Abalone; Billfish (Marlins, Spearfishes, and Sailfishes); Catfish (Ictaluridae); Cod, Atlantic; Cod, Pacific; Crab, Blue; Crab, Dungeness; Crab, King; Crab, Snow; Dolphinfish (Mahi Mahi); Oyster; Grouper; Haddock; Halibut, Atlantic; Halibut, Pacific; Lake or Yellow Perch; Lobster; Mackerel; Menhaden; Opah; Orange Roughy; Red Drum; Red Snapper; Sablefish; Salmon, Atlantic; Salmon, Chinook; Salmon, Chum; Salmon, Coho; Salmon, Pink; Salmon, Sockeye; Scallop; Sea bass; Sea cucumber; Shrimp; Sharks; Sole; Squid; Sturgeon caviar; Swordfish; Tilapia; Toothfish; Tunas (Albacore, Bigeye, Bluefin, Skipjack, Yellowfin); Wahoo; Walleye (Alaskan) Pollock; Pacific Whiting.

Based on public comments received on the draft list of at-risk species, the following eight additional species/species groups were also analyzed according to the principles described above: Anchovies; Eels; Flounder (Southern and Summer); Octopus; Queen Conch; Weakfish; Skates and Rays.

Both imported and domestically-landed species were evaluated using the same principles, data sources and methodology, as described below. Principles were not weighted and were evaluated evenly. Additionally, the Working Group considered the interaction of principles to be important. For example, the interaction between the enforcement capability, and history of violations was important when evaluating species. The presence or absence of one principle (e.g., catch documentation scheme) was not determinative in making the at-risk assessment.

The following Federal agency offices contributed to the analysis of the list of species: the Office of Marine Conservation, Bureau of Oceans and International Environmental Affairs, Department of State; Office of the Under Secretary for Economic Growth, Energy, and Environment, Department of State; Office of International Affairs and Seafood Inspection, National Marine Fisheries Service, NOAA, Department of Commerce; Office of Sustainable Fisheries, National Marine Fisheries Service, NOAA, Department of Commerce; Office of Science and Technology, National Marine Fisheries Service, NOAA, Department of Commerce; Office of Law Enforcement, National Marine Fisheries Service, NOAA, Department of Commerce; Office of General Counsel, Enforcement Section, NOAA, Department of Commerce; and Office of General Counsel, Fisheries and Protected Resources Section, NOAA, Department of Commerce; U.S. Customs and Border Protection; U.S. Department of Homeland Security; Division of Seafood, Office of Food Safety, Food and Drug Administration; Office of Analytics and Outreach, Food and Drug Administration; Office of Compliance, Food and Drug Administration; Office of Environment and Natural Resources, U.S. Trade Representative; Office of General Counsel, U.S. Trade Representative. Resources from these offices, including data and expertise, drove the analysis and application of principles. Additional information used was from U.S. government-verifiable sources, such as data gathered by Regional Fisheries Management Organizations to which the United States is a member and whose scientific data is developed and reviewed with active U.S. government participation.

Sub-working groups composed of subject matter experts from the agencies listed above were created to complete the analyses of each species under each individual principle. The Working Group then combined the analyses done by the sub-working groups to determine which species were most at risk of IUU fishing and seafood fraud. The Working Group noted that the suite of risks posed to species varied not only in terms of which risks affected which species, but also in terms of the scale of the risks. For example, a single documented case of species substitution for a species that is sold in high volumes was considered differently than one case for a species rarely found in U.S. markets.

Additionally, as the Working Group discussed the suite of risks associated with the principles, a relationship became evident between the enforcement capability associated with a species and the history of violations. In many cases, a history of violations was indicative of a strong enforcement capability for a species. Conversely, for some species, a lack of violations history may have been due to an in-ability to detect or prosecute violations.

After the second round of public comment, the Working Group reconvened to discuss the eight new species or species groups added to the analysis in response to public comments plus new, relevant, U.S. government-verifiable information from the past five years applicable to species already analyzed. Based upon these discussions, the list of species now deemed to be at risk of IUU fishing and seafood fraud has been modified from the draft list.

Species at Risk of IUU Fishing and Seafood Fraud

The Working Group recognizes that all species of fish can be susceptible to some risk of IUU fishing or seafood fraud due to the inherent complexities in the fishing industry and supply chain. However, the species list has been developed to identify species for which the current risks of IUU fishing or seafood fraud warrant prioritization for the first phase of the traceability program. Pursuant to the Action Plan, implementation of the first phase of the traceability program will be regularly evaluated, beginning with a report to be issued by December 2016, in order to determine “whether it is meeting the intended objectives and how it can be expanded to provide more information to prevent seafood fraud and combat IUU fishing.”

Based on its evaluation, the Working Group identified the following list of species or species groups at risk of IUU fishing and seafood fraud, in alphabetical order. (Appendix A to this final notice lists the scientific names for these species and/or species groups.) Brief summaries of the Working Group findings are presented here. Detailed presentation of the data considered by the Working Group and its deliberations is protected from disclosure because of data confidentiality and enforcement implications.

Abalone: Abalone is considered to be at-risk due to enforcement concerns. The fishery has a history of poaching, and there is a known black market for this expensive seafood. The fishery is primarily conducted by small vessels close to shore, and does not require specialized gear, which makes it difficult to detect illegal harvest, despite some enforcement capability. In addition to the IUU fishing risks for abalone, there is a history of species substitution where topshell is fraudulently marketed as abalone.

Atlantic Cod: Atlantic cod has been the subject of species substitution with other white fish, and mislabeling due to over-glazing (ice coating), and short-weighting. Despite enforcement capability, Atlantic Cod have been targets of IUU fishing in parts of the geographic range of the species. Additional IUU fishing risk is tied to a lack of an effective catch documentation scheme throughout the geographic range of fishing activity, despite rigorous reporting requirements in some areas including the United States.

Blue Crab: Atlantic Blue crab is sold in a number of different forms from live animals to significantly processed crab meat. In the crabmeat product form species identification is only possible through DNA testing. There is a strong history of both species substitution and mislabeling. Blue crab has been substituted or co-mingled with swimming crab, which is native to Southeast Asia. The mislabeling history is largely associated with misidentification of product origin, with crab from other locations sold as “Maryland crab,” although there have also been incidents of short-weighting in the sale of crab meat.

Dolphinfish: Dolphinfish (also known as Mahi Mahi) is associated with a lack of enforcement capability and lacks a catch documentation scheme throughout the geographic range of fishing activity, which make it vulnerable to IUU fishing. Some dolphinfish is transshipped prior to entry into the United States, and there is concern over mislabeling associated with product origin. In addition, there is a history of species substitution, in which yellowtail flounder has been sold as dolphinfish.

Grouper: Grouper refers to a group of species in the family Serranidae that are legally fished and sold under the names grouper and spotted grouper. Grouper, as a species group, has a history of fisheries violations, and lacks a catch documentation scheme throughout the geographic range of fishing activity for the species group. Additionally, this global species is transshipped, and processed both at the local level and at regionally-located or third-country processing plants. Grouper has a strong history of species substitution, including substitution using seafood that is of human health concern, such as escolar (which has a Gempylotoxin hazard).

King Crab (red): King crab (red) has a significant history of fisheries violations, and insufficient enforcement capability in some parts of the world. Additional IUU fishing risk is tied to the lack of an effective catch documentation scheme throughout the geographic range of fishing activity, despite rigorous reporting requirements in some areas, including the United States. King crab is at risk of seafood fraud, mostly due to misrepresentation of product origin, as well as some species substitution. Further, King crab is often transshipped before entering the United States, which increases the IUU fishing and seafood fraud risks.

Pacific cod: Pacific cod is a species at risk of IUU fishing despite significant enforcement capability associated with this fishery. Pacific cod is a target of global IUU fishing operators and has a clear history of fishing violations. It is also subject to highly globalized processing and transshipment. Additional IUU fishing risk is tied to a lack of an effective catch documentation scheme throughout the geographic range of fishing activity, despite rigorous reporting requirements in some areas including the United States. In addition, as with Atlantic cod, there is a history of species substitution using other white fish and concerns over mislabeling associated with over-glazing (ice coating) and short-weighting.

Red Snapper: Red Snapper is at risk of IUU fishing, based upon the history of fisheries violations, as well as the lack of a catch documentation scheme throughout the geographic range of fishing activity, despite rigorous reporting requirements in some areas including the United States. There are also enforcement capability concerns for red snapper throughout the full geographic range of fishing activity for the species. Additionally, there is a strong history of species substitution with some of the substituted species (e.g., rockfish, porgy, other snappers) presenting a risk to human health due to parasites and natural toxins.

Sea Cucumber: Sea cucumber is an IUU fishing concern, due to the lack of enforcement capability and known illegal harvesting and smuggling associated with this species. This species also lacks a catch documentation scheme throughout the geographic range of fishing activity and is subject to a significant amount of transshipment. Although sea cucumber is often sold live, it can also be processed into a dried product for preservation. There are mislabeling concerns for sea cucumber, often tied to falsification of shipping and export documentation to conceal illegally-harvested product.

Sharks: “Sharks,” as included on the at-risk species list, refers to a group of species that are often sold as fins, with some species also sold as steaks or filets. Depending upon the product form, differentiating between species in this broad group is a challenge without identification guides or DNA testing. This led the Working Group to group all shark species together to assess risks. Sharks as a species group have a history of fishing violations because they are processed and transshipped, and there is a lack of enforcement capability throughout the geographic range of fishing activity. There is a global trade in shark fins that is a known enforcement concern. In addition to the IUU fishing risks associated with sharks, there are fraud concerns tied to the sale of imitation shark fin, which has been labeled as shark fin.

Shrimp: Shrimp is produced through both aquaculture and wild harvest. The Working Group found that shrimp is at risk of IUU fishing activity due to the history of fishery violations. Shrimp is also often processed and co-mingled, which can make it vulnerable to seafood fraud. There is a significant amount of mislabeling and/or misrepresentation of shrimp, tied largely to misrepresentation of weight, including where product has been treated with Sodium Tripolyphosphate to increase water retention (the lack of labeling is fraudulent, not the use of Sodium Tripolyphosphate). Mislabeling is also a concern because aquacultured product is sometimes labeled as wild caught and product origin is sometimes falsified. Additionally, there is a history of substitution of one species of shrimp for another when imports cross the border into the United States.

Swordfish: Swordfish are at risk of both IUU fishing and seafood fraud. Swordfish are a highly migratory species and their range crosses numerous jurisdictions, including the high seas. There is a history of fisheries violations in certain swordfish fisheries and regions, in addition to a lack of enforcement capability. The United States does, however, implement a statistical document program for swordfish pursuant to the International Commission for the Conservation of Atlantic Tunas (ICCAT) to help mitigate IUU fishing and seafood fraud risk. This document is required for all swordfish product entering the United States, regardless of the product form or ocean area where it was harvested, although it does not provide the full range of information that would likely be expected in a traceability program, particularly for fish harvested outside the Atlantic, which are not a part of the program. Swordfish is commonly transshipped and is also at risk of species substitution with mako shark.

Tunas: Tunas are a high volume and high value species group that includes five main species: Albacore, bigeye, skipjack, yellowfin, and the bluefins. There is a history of fisheries violations in certain tuna fisheries and in certain regions. Further, harvesting, transshipment, and trade patterns for tunas can be complex, in particular for certain value-added products. While there are multilateral management and reporting measures in place for many stocks within the tuna species group, these management and reporting mechanisms vary in terms of information standards and requirements and some do not provide a complete catch documentation scheme. Tunas are also subject to complicated processing that includes comingling of species and transshipments. Further, there is a history of some species substitutions, with most instances involving substitution of one tuna species for another. Additionally, there have also been instances of escolar, which can contain a toxin, being substituted for albacore tuna.

The Working Group sought public comment specifically on how to narrow the scope of tunas on the list of at-risk species. Public comment received highlighted that the risk levels vary greatly depending on species. The Working Group further discussed the variability of the risk levels for IUU fishing and seafood fraud on a species by species basis. The Working Group has determined that Bluefin tuna species are at a lower risk of IUU fishing and seafood fraud than other tuna species and has determined that it should not be included on the list of at-risk species. This decision reflects our conclusion that two of the principles analyzed demonstrate that there is a lower risk of IUU and seafood fraud as compared to other tunas. First, there are robust catch documentation scheme in place for Atlantic bluefin tuna and Southern bluefin tuna entering the U.S. market, which are implemented through Regional Fisheries Management Organizations. Bluefin tuna was historically a target of IUU fishing and thus had a catch documentation scheme implemented for two of the three species world-wide, which are the two species comprising the vast majority of Bluefin that enters U.S. Commerce. A catch documentation scheme is under development for Pacific Bluefin tuna. The existing catch documentation scheme for Bluefin tuna does not eliminate all risk of IUU fishing, but it mitigates the risk to a low level. Second, Bluefin tuna does not have the history of species substitution that other tunas have, in part because of its different color and texture compared to other tunas, as well as the sophistication of Bluefin buyers, in discerning Bluefin from other fish. Although the Working Group recognizes that there may be further variance in risk level among the three Bluefin species, we have chosen to remove all three stocks, so as not to create any incentive for new species substitution schemes among the three Bluefin species.

Programs To Mitigate Risk

Through the application of the principles for determining at-risk species, the Working Group identified two species—toothfish and catfish—that had a number of risk factors for IUU fishing or seafood fraud but, due to mechanisms to address those risks, are not being listed as at-risk species in this Notice.

Toothfish has been known, historically, as a species with IUU fishing concerns, which led to the development, by the Commission for the Conservation of Antarctic Marine Living Resources (CCAMLR), of a number of monitoring tools including a comprehensive catch documentation scheme. Without the existing level of reporting, documentation, and enforcement capability, including through measures adopted by CCAMLR, for this species, the Working Group would have found it to be at-risk.

The Working Group found that while existing measures do not eliminate risk for toothfish, they mitigate the IUU fishing and seafood fraud risks to such a level that the Working Group is not listing toothfish as an at-risk species for the first phase of the traceability program.

In the United States, seafood sold as catfish must be from the family Ictaluridae per section 403(t) of the Federal Food, Drug, and Cosmetic Act (21 U.S.C. 343(t)). There is a strong history of species substitution, in which non-Ictaluridae species are sold as catfish. Some of this species substitution has been tied to Siluriformes species, which could have a drug hazard associated with them, as well as other species that have been found contaminated with prohibited chemicals and pharmaceuticals. In addition to species substitution, there is a history of other mislabeling issues, including product origin and failure to accurately label product that has been treated with carbon monoxide.

These risks were discussed and are fully recognized by the Working Group. However, there is a rulemaking on catfish inspection (http://www.reginfo.gov/public/do/eAgendaViewRule?pubId=201410&RIN=0583-AD36) under development, separate from the NOC Committee and Working Group actions. Once in effect, this pending rulemaking may mitigate risks identified by the Working Group. Taking into consideration the underlying principle of the Task Force to maximize the use of existing resources and expertise from across the federal government through increased federal agency collaboration, the Working Group did not include catfish on this initial list of at-risk species.

Summary of Comments in Response to Draft Principles and Draft List of At-Risk Species (80 FR 45955, August 3, 2015)

In response to the August 3, 2015, Federal Register notice (described above), and following outreach to foreign nations, the Working Group received 101 unique written comments from fishing industry groups both domestic and abroad, non-governmental organizations, foreign nations, and interested citizens. The comments covered a breadth of issues pertaining to seafood traceability. The Working Group considered all public comments, and has provided responses to all relevant issues raised by comments below. We have not responded to comments that were outside the scope of the public comment request and that may be more relevant to future steps in the process, e.g., the pending rulemaking on the design and implementation of the traceability system.

1. Decision-making Transparency

Comment: The Working Group received numerous public comments requesting additional information on what data was used in making the species risk determinations, as well as what experts were a part of the process.

Response: This notice specifies all government offices that contributed data and expertise. The data came from across the U.S. Federal government and included government-verifiable data, such as that of certain Regional Fisheries Management Organizations. As noted earlier, details of the results have not been included because much of the data reviewed are sensitive and/or confidential, and could compromise the integrity of individual businesses, systems or enforcement capability if released.

2. Approach for Analysis Should Be Quantitative

Comment: We received comment that the application of principles should be quantitative, and use numbers and a systematic data driven approach.

Response: The Working Group partially agrees. We used systems and expertise to apply the principles for determining seafood species at-risk of IUU fishing or seafood fraud evenly, and did not give any individual principle more weight than another. The application of these principles was not entirely quantitative, however, as some of the information we used was not quantitative. Incidents of illegal fishing and incidents of fraudulent activity vary in scope and scale from one to the next and the differences cannot be numerically calculated.

3. Data Used Should Be From a Longer Time Period

Comment: The Working Group received public comment that a longer time horizon would afford more data on violations and more ability to see trends over time.

Response: The Working Group agrees that looking at a longer time horizon would produce more data from the databases utilized; however it would potentially decrease the accuracy of the determination regarding current risk. There have been efforts made in most fisheries to decrease the level of risk, and the Working Group does not think that data from further back than five years accurately depicts the current status of fisheries.

4. Using Additional Authorities

Comment: Comment was received regarding the legal authorities for the rulemaking and regulatory process that will implement a seafood traceability program for the species listed as at-risk.

Response: This comment is outside the scope of this public comment request. The rulemaking process will provide an opportunity for public comment on the proposed seafood traceability program and this comment would be more appropriately directed toward that process.

5. Country Specific Risk/Country of Origin Based

Comment: The Working Group received numerous comments, including from many foreign nations that species risk should be tied to country of origin.

Response: The Working Group acknowledges that the risk of IUU fishing will vary depending on the origin of catch and country of processing. However, the Working Group used enforcement capability and history of fisheries violations when determining the at-risk species to capture this element of the risk analysis because these more directly represent risk. These principles already take into account fisheries identified in NOAA's biennial report to Congress as implicated in IUU fishing (see 16 U.S.C. 1826h). In addition, the Working Group does not believe it is useful or appropriate to establish a principle based on country of origin.

6. Vessel Specific

Comment: The Working Group received a comment that the risk level and the application of the traceability program should be vessel specific, as that is the appropriate level at which to assess risk.

Response: The Working Group used history of fisheries violations as a principle, which covers incidents from all vessels.

7. Equality

Comment: Numerous comments were received regarding equality. The majority of the comments received were tied to equality from one nation to another. These comments included requests that countries be treated equally in the analysis for identifying at-risk species, as well as comments outside of the scope of this comment request, pertaining to the equal and evenhanded implementation of the pending traceability program.

Response: The Working Group applied each of the principles for determining risk level evenly and equally. The principles were applied equally to domestically-landed species and imported species.

8. IUU Fishing Should Be Separate From Seafood Fraud

Comment: The working group received a couple of comments that seafood fraud and IUU fishing are separate and should be analyzed as such.

Response: The Working Group agrees and recognizes the difference between IUU fishing and seafood fraud. We recognize that, for example, they may occur at different points in the supply chain from harvest to entry into U.S. commerce; however the Working Group believes they are a part of the same system. The Working Group developed principles, informed by public comment, which are specific to the different components. For example, under the principles applied by the Working Group, the history of fishery violations is specific to the concept of IUU fishing, whereas species misrepresentation is specific to seafood fraud. When analyzing a species, the Working Group applied each principle individually and then analyzed the resulting findings across the supply chain for both IUU fishing and seafood fraud.

9. Enforcement of Existing Laws

Comment: Public comment encouraged the enforcement and application of existing laws before creating new laws.

Response: This notice, which identifies at-risk species, does not, in and of itself, create any new legal requirements. Establishment of the seafood traceability program through a future rulemaking, as well as the resources devoted to implementation of current laws, are outside the scope of this comment request.

10. Combatting IUU Fishing Requires Focus on Flag State, Port State, and Market State

Comment: The Working Group received comment that proposing a list of at-risk species and the following implementation of a seafood traceability program focuses solely on the market drivers of IUU fishing and seafood fraud, and does not approach Flag State and Port State measures. The commenter stated that all three are critical components to combatting IUU fishing and seafood fraud, and that a narrow focus would limit effectiveness.

Response: The Presidential Task Force on Combatting IUU Fishing and Seafood Fraud Action Plan contains 15 recommendations. This series of Federal Register notices pertained only to one component of recommendation 15, the identification of principles for determining at-risk species and the initial list of at-risk species. Other Task Force recommendations focus on Flag State and Port State measures, from actions on enforcement capacity building to working on obtaining entry into force of the Port State Measures Agreement.

11. Biological Vulnerability/Overfished/Overfishing Should Be a Principle

Comment: The Working Group received comments requesting that a principle for determining at-risk species be tied to the biological vulnerability and/or status of a species. Commenters note that as a species is overfished, the risk of IUU fishing can increase.

Response: The Working Group acknowledges that the sustainability of fisheries resources is a priority for NOAA under the Magnuson-Stevens Fishery Conservation and Management Act (MSA), 16 U.S.C. 1801 et seq. Some vulnerable species identified in public comments such as sharks, sturgeon caviar, and abalone were added to the base list and analyzed by the Working Group. The Working Group agrees that as legal catch limits on a species are tightened, the incentive for IUU fishing often increases. However, the main focus of this process is to identify species at risk of IUU fishing or seafood fraud and enforcement capability and history of violations are better indicators of IUU fishing risk than species sustainability.

12. Gear-Type

Comment: The Working Group received a comment that the risk of IUU fishing is tied to gear type, and that gear type should be a principle for determining at-risk species.

Response: The Working Group acknowledges that fishing gear used in IUU fishing can sometimes include illegal gear types that are indiscriminate and can have higher environmental impacts than legal gear types. However, the Working Group does not believe that gear type alone is a sufficiently strong determinant of IUU fishing or seafood fraud risk, and use of illegal gear types was covered through the information collected on enforcement capability and history of violations.

13. Human Rights and/or Human Trafficking Concern

Comment: Numerous comments were received recommending that a history of human rights violations or human trafficking concerns should be a principle used to identify species at risk of IUU fishing and seafood fraud.

Response: Human rights and human trafficking are issues in the fishing industry that warrant consideration and action, but are not in and of themselves determinative of IUU fishing and seafood fraud. The Administration is addressing these issues in a variety of ways. On March 15, 2012, President Obama called on his cabinet to strengthen federal efforts to combat human trafficking and to expand partnerships with civil society and the private sector. The President's Interagency Task Force to Monitor and Combat Trafficking in Persons (PITF) and its operational arm, the Senior Policy Operating Group (SPOG), bring together federal departments and agencies to ensure a whole-of-government approach that addresses all aspects of human trafficking—enforcement of criminal and labor laws, development of victim identification and protection measures, support for innovations in data gathering and research, education and public awareness, enhanced partnerships and research opportunities, and strategically linked foreign assistance and diplomatic engagement. For more information on the Administration's effort to combat Trafficking of Persons, please visit http://www.state.gov/j/tip/response/usg/.

14. Transparency of Vessel Ownership

Comment: The Working Group received comment recommending that the transparency of vessel ownership be used as a principle for determining species at risk of IUU fishing and seafood fraud. The comment suggests that convoluted vessel ownership and flags of convenience are often tied to IUU fishing.

Response: The Working Group agrees with the potential correlation between vessel ownership transparency and the potential for IUU fishing. This was addressed in the Working Group's discussions about enforcement capability; however there is not sufficient data available to analyze this as a principle for determining at-risk species.

15. Complex Chain of Custody

Comment: The Working Group received multiple comments on using the complexity of the chain of custody as a principle for determining IUU fishing risk. Many commenters agreed with the inclusion of this as a principle, while another group suggested there was no connection between IUU fishing and chain-of-custody complexity. The latter group requested more information on the relationship between the level of processing or chain-of-custody complexity and the risk of IUU fishing. We also received public comment stating that the two are not related, and thus this principle should not be used to determine at-risk species.

Response: The Working Group does not believe that a complex chain of custody or high level of processing necessarily signifies fraudulent product or a connection to IUU fishing. In the more complex chains of custody, however, there are more opportunities for mixing illegally caught fish with legally caught fish, and for mislabeling, thereby increasing the risk of IUU fishing or seafood fraud. Transshipments make tracking the chain of custody harder and present opportunities to commingle legally and illegally caught fish. Seafood that undergoes a high amount of processing and enters U.S. Commerce through a long chain of custody may often be legal and not fraudulent, but that does not negate the increased risk. Therefore, the Working Group had retained complexity in the chain of custody as a principle for determining at-risk species.

16. Harmful Antibiotics and Human Health Risk

Comment: The Working Group received comment requesting that in the application of the human health risk principle, we extend our assessment of risk to harmful antibiotic use.

Response: The application of the human health risk principle did include the use of harmful or unlawful antibiotic use. This principle does not, however, include the use of legal and non-harmful antibiotic use in aquaculture practice.

17. Weighting of Principles

Comment: The Working Group received public comment both requesting clarification on whether we weighted some principles more heavily than others, as well as comment requesting that we do so.

Response: The Working Group considered all of the principles without giving weights to them. The discussion for each species evaluated covered all of the principles and the findings associated for each, and the Working Group reviewed the suite of risks as a whole picture, without any one principle having a designated higher level of importance.

18. Number of Species

Comment: The Working Group received comments requesting both that all species be part of the first phase of the pending traceability program as well as comments requesting that the list of at-risk species be limited to two to three species.

Response: The Action Plan specifies that the Working Group is to prioritize species at risk of IUU fishing and seafood fraud in the first phase of a seafood traceability program that could eventually be expanded to cover all species. As directed by the Task Force, the Working Group completed a data driven analysis and listed species determined to be most at risk of IUU fishing or seafood fraud. This exercise was not predicated on creating a list with a certain number of species, rather the focus was on the most at-species, regardless of the numerical results.

19. The Substitute Species Should Be Tracked (e.g., Blue Swimming Crab)

Comment: Public comment received recommended that the traceability program track both the at-risk species and the species that are substitutes for those targets. For example, Atlantic Blue Crab is on the list of at-risk species, in part because Blue Swimmer Crab is known to be mislabeled and fraudulently marketed under the Atlantic Blue Crab name. The recommendation from public comment is that both are at-risk of seafood fraud and, therefore, both the target and the substitute should be tracked.

Response: The Working Group believes that the species at risk of fraud is the one that other species are used to imitate and that, at this time, tracking of the target species is the most efficient approach.

20. Aquaculture Species

Comment: Commenters requested that aquaculture species be exempt from the pending traceability program, and removed from the list of at-risk species because aquacultured species are not subject to IUU fishing.

Response: Both wild caught and aquacultured seafood can be at risk of seafood fraud (e.g., farmed shrimp mislabeled as wild-caught) and therefore both are included on the list of at-risk species.

21. Consistency and Coordination With the Marine Mammal Rule

Comment: Public comment was received regarding the relationship between this list of at-risk species, the pending seafood traceability program, and the proposed rulemaking promulgated under the Marine Mammal Protection Act (MMPA). The proposed MMPA rule aims to reduce marine mammal bycatch associated with commercial fishing operations. Under the proposed MMPA rule, nations wishing to export fish and fish products to the United States must demonstrate they have a regulatory program for reducing marine mammal incidental mortality and serious injury that is comparable in effectiveness to the U.S. program.

Response: The MMPA proposed rulemaking is focused on reducing marine mammal bycatch, unlike this Federal Register Notice, which identifies species at risk of IUU fishing and seafood fraud. However, NOAA recognizes the importance of ensuring that its programs are consistent and coordinated.

22. “High Volume,” “High Visibility”

Comment: A commenter requested clarification regarding the meaning of the terms “high volume” and “high visibility” species when referring to tunas, in the Federal Register notice with the draft list of at-risk species.

Response: In using those terms, the Working Group was trying to highlight that this is a popular group of species in the U.S. market. Tuna is a high volume import, and the text should have read that is it also a “high value” species.

23. Use Scientific Names

Comment: The Working Group received numerous comments requesting that scientific names be used to in the list of at-risk species, for greater clarity.

Response: The Working Group agrees with this comment, and has included an appendix of the scientific names for the at-risk species.

24. Government Resources

Comment: Comments were received recommending that the U.S. government contribute adequate resources both domestically and in capacity building abroad to implement the pending traceability program effectively. A separate comment was also received stating that no additional government resources should be spent on implementing the pending program.

Response: Implementation of the seafood traceability program is outside the scope of this Federal Register Notice, however, the Working Group notes that the Action Plan does not call for additional government resources for this effort.

25. United Nations Food and Agricultural Organization (FAO) Catch Documentation Scheme

Comment: The Working Group received comment that FAO has begun discussions about implementing a catch documentation scheme and that we should use their deliberations to inform our pending program.

Response: The traceability program as outlined in the Action Plan is to be in at least two parts. The first phase applies to species most at risk of IUU fishing and seafood fraud and, by December 2016, an evaluation of the program will be conducted to inform a possible program expansion to all species. The FAO deliberations, if contemporary to the predetermined timeline for the U.S. program, could prove useful, as could additional work being contemplated by the FAO related specifically to traceability.

26. Existing Efforts To Combat IUU Fishing and Seafood Fraud

Comment: The public comment highlighted the importance of not duplicating efforts of existing programs and enforcement that target IUU fishing and seafood fraud.

Response: The Working Group agrees, and the Presidential Task Force to Combat IUU Fishing and Seafood Fraud and the Action Plan both support the idea of coordination, not duplication.

27. Third Party Certification

Comment: The Working Group received public comment requesting clarification on whether third party certification (e.g., Marine Stewardship Council) would exempt product from the pending seafood traceability program. Comment was also received recommending that product should be exempt if it is certified by a third party.

Response: Implementation of the traceability program, including any potential exemptions, is beyond the mandate of the Working Group and outside the scope of this Federal Register Notice. It will be addressed in the forthcoming rulemaking related to the traceability program.

28. Fraud in the United States

Comment: The Working Group received comments on the level of fraud that happens with seafood inside U.S. commerce, once seafood has entered into our markets. Comments requested information on how the pending traceability program will address the amount of fraud that happens once seafood is inside U.S. markets.

Response: The scope of the traceability program is beyond the mandate of the Working Group and outside the scope of this Federal Register Notice. It will be addressed in the forthcoming rulemaking related to the traceability program.

29. Chain of Custody Principle Discriminates Against Imports

Comment: One commenter noted that using complex chain of custody as a principle will discriminate against imports.

Response: The Working Group disagrees. The Working Group considered the frequency of transshipment, complexity of processing, and complexity of the supply chain (especially with respect to the potential for fish to be comingled) equally for domestically-harvested and imported fish.

30. Carbon Monoxide

Comment: One comment was received concerning the use of carbon monoxide to improve the color of fish to make it appear fresh. The commenter was concerned that this practice creates an unfair market for local seafood that is fresh and untreated with carbon monoxide. Another commenter was concerned about our inclusion of carbon monoxide as an example of fraud, as it is legal to use.

Response: The Working Group recognizes the concerns raised by these comments. The use of carbon monoxide is legal; however, the product must be labeled appropriately. The mislabeling principle addressed the fraudulent practice of failing to properly label product that has been treated.

31. Tripolyphosphate

Comment: The Working Group received a comment that expressed concern about our inclusion of Tripolyphosphate as an example of fraud associated with shrimp, as it is legal to use.

Response: The Working Group recognizes the concerns raised by these comments. The use of Tripolyphosphate is legal; however, the product must be labeled appropriately. The mislabeling principle addressed the fraudulent practice of failing to properly label product that has been treated.

Canned Tuna

Comment: Public comments noted that the majority of tuna in the United States is from canning companies that have industry-run traceability programs for contamination and human health reasons and thus have a lower level of IUU fishing and fraud risk.

Response: The Working Group agrees that some canned tuna may have a lower level of IUU fishing and seafood fraud risk than other product forms. This is based both upon the existence and potential effectiveness of industry led traceability programs for canned tuna, and the fact that canned product that enters U.S. commerce as “dolphin safe,” is required to have a statement from the captain of the harvest vessel thus tying the product to the harvest vessel. The Working Group notes that the potentially lower level of risk for canned tuna products could be considered in the application of the data collections requirements of the forthcoming proposed traceability program or be addressed through the voluntary Trusted Trader Program to be developed by the Departments of Commerce and Homeland Security per Recommendations 14 and 15 of the Action Plan.

32. Bioterrorism Act of 2002

Comment: The Working Group received a comment requesting clarification on the relationship between the pending traceability program and this Bioterrorism Act of 2002.

Response: The Bioterrorism Act of 2002 required FDA to establish requirements for the creation and maintenance of records needed to determine the immediate previous sources and the immediate subsequent recipients of food, (i.e., one up, one down). Such records are to allow FDA to address credible threats of serious adverse health consequences or death to humans or animals. Entities subject to these provisions are those that manufacture, process, pack, transport, distribute, receive, hold or import food. Farms and restaurants are exempt from these requirements.

To carry out this provision in the Bioterrorism Act, the Food Safety Modernization Act (FSMA) was enacted and it included enhancing tracking and tracing of food and recordkeeping. Under FSMA, FDA, working with the U.S. Department of Agriculture (USDA) and State agencies, has established two product tracing pilot projects carried out by the Institute of Food Technologists (IFT). The projects will help determine which data are most needed to trace a product that is in the market back to a common source and, once the contaminated ingredient is identified, to trace the product forward to know where it has been distributed. IFT has recommended steps for traceability improvement, and the information is still under review and we cannot make any comparative analyses.

33. Cooked Seafood

Comment: The Working Group received comment requesting clarification as to whether the pending seafood traceability program would extend to cooked seafood, which is exempted from the Country of Origin Labeling (COOL) protocols.

Response: The product types that will be a part of the program will be delineated in the traceability rule-making process and are beyond the scope of this Federal Register Notice.

34. Base List of Species

Comment: The Working Group received a public comment that the base list of species examined was skewed toward high value species, and the focus should be broadened to include mass-market fish.

Response: Initially the Working Group looked at both high value and high volume fisheries, but many of the high volume fisheries were also high value fisheries. Generally the only high volume fisheries that did not meet the value threshold were from bait fish fisheries. Therefore, the Working Group concluded a separate look at high volume fisheries was not useful. There were a number of lower value, but higher volume (mass market), stocks analyzed using the standards noted as part of the base list. However, the level of risk associated with many of them did not warrant having them on a list of species at risk of IUU fishing and seafood fraud.

35. European Union (EU) IUU Seafood Certification

Comment: A number of comments included discussion of the EU approach to combatting IUU fishing, which is country-of-origin based, rather than species-based.

Response: The Working Group is implementing the recommendations of the Presidential Task Force on Combatting IUU fishing and Seafood Fraud, which outlines a species specific approach as the basis for the first phase of the traceability scheme. As noted above, the Working Group does not believe it is appropriate to establish a principle based on country of origin. In addition, the U.S. government does not have active involvement with the EU country-based IUU fishing risk identification system. Therefore, the Working Group did not include a principle that would identify at-risk species based on whether they are associated with nations that have been issued a yellow or red card under the EU system. However, to the extent available, information generated or collected pursuant to the EU system that could be relevant to other principles used by the Working Group, such as enforcement capability and history of fisheries violations for specific species, was considered.

36. Additional Species

Comment: The Working Group received many comments requesting that additional species be added to the list of at-risk species. The additional species requested included: Anchovies, All Snappers, Eels, Flounder, Lobster, Mackerel, Pollock, Octopus, Salmon, Skates & Rays, Snow Crab, Squid, Totoaba, and Weakfish.

Response: Lobster, Mackerel, Pollock, Salmon, Snow crab, and Squid were evaluated by the Working Group previously. The Working Group has confirmed that its earlier assessment of the species was accurate. Specific to the requests to have all snappers on the list, the Working Group determined that the species that is most at-risk for IUU fishing and seafood fraud is Red Snapper, and that the other snappers are generally used as a substitute for Red Snapper. Thus the Working Group did not expand the at-risk species to include all snappers. Totoaba, was requested for addition through public comment, but was not evaluated. Totoaba is listed as endangered under the Endangered Species Act (ESA), and is listed in Appendix 1 of the Convention on International Trade in Endangered Species of Wild Fauna and Flora (CITES) as threatened with extinction. This listing eliminates legal trade and negates the need for including Totoaba on the list of at-risk species.

The Working Group reviewed the following additional species, as suggested through public comments: Anchovies; Eels; Flounder (Southern and Summer); Octopus; Queen Conch; Weakfish; Skates and Rays. All of these species were evaluated using the same principles and methodology applied to the previously analyzed species. The Working Group did not find enough risk across the suite of principles to warrant adding any of the newly suggested species to the final list of at-risk species.

37. Emphasis on Unregulated and Unreported Catch

Comment: A comment was received suggesting the Working Group needed to increase attention on unregulated and unreported catch, while another comment suggested the Working Group needed to pay less attention to unregulated and unreported catch.

Response: Illegal, unregulated and unreported catch all have negative impacts on the sustainability of fisheries and on legal fishing businesses across the world. In its analysis, the Working Group took into consideration unregulated and unreported catch concerns.

Appendix 1

Common | Scientific name (to genus or to species) | Family | Order
abalone | Haliotis spp | Haliotidae | GASTROPODA.
albacore | Thunnus alalunga | Scombridae | SCOMBROIDEI.
Atlantic cod | Gadus morhua | Gadidae | GADIFORMES.
bigeye tuna | Thunnus obesus | Scombridae | SCOMBROIDEI.
blue crab | Callinectes sapidus | Portunidae | BRACHYURA.
dolphinfish | Coryphaena hippurus | Coryphaenidae | PERCOIDEI.
groupers | Aethaloperca spp | Serranidae | PERCOIDEI.
groupers | Anyperodon spp | Serranidae | PERCOIDEI.
groupers | Caprodon spp | Serranidae | PERCOIDEI.
groupers | Cephalopholis spp | Serranidae | PERCOIDEI.
groupers | Cromileptes spp | Serranidae | PERCOIDEI.
groupers | Dermatolepis spp | Serranidae | PERCOIDEI.
groupers | Diplectrum spp | Serranidae | PERCOIDEI.
groupers | Epinephelus spp | Serranidae | PERCOIDEI.
groupers | Gracila spp | Serranidae | PERCOIDEI.
groupers | Hyporthodus spp | Serranidae | PERCOIDEI.
groupers | Mycteroperca spp | Serranidae | PERCOIDEI.
groupers | Plectropomus spp | Serranidae | PERCOIDEI.
groupers | Saloptia spp | Serranidae | PERCOIDEI.
groupers | Triso spp | Serranidae | PERCOIDEI.
groupers | Variola spp | Serranidae | PERCOIDEI.
Pacific cod | Gadus macrocephalus | Gadidae | GADIFORMES.
red king crab | Paralithodes camtschaticus | Lithodidae | ANOMURA.
red snapper | Lutjanus campechanus | Lutjanidae | PERCOIDEI.
All Sea Cucumber Species, including the below list from the Food and Agricultural Organization
sea cucumber | Actinopyga spp | Holothuriidae | HOLOTHUROIDEA.
sea cucumber | Apostichopus spp | Stichopodidae | HOLOTHUROIDEA.
sea cucumber | Astichopus spp | Stichopodidae | HOLOTHUROIDEA.
sea cucumber | Athyonidium spp | Cucumariidae | HOLOTHUROIDEA.
sea cucumber | Australostichopus spp | Stichopodidae | HOLOTHUROIDEA.
sea cucumber | Bohadschia spp | Holothuriidae | HOLOTHUROIDEA.
sea cucumber | Cucumaria spp | Cucumariidae | HOLOTHUROIDEA.
sea cucumber | Heterocucumis spp | Cucumariidae | HOLOTHUROIDEA.
sea cucumber | Holothuria spp | Holothuriidae | HOLOTHUROIDEA.
sea cucumber | Isostichopus spp | Stichopodidae | HOLOTHUROIDEA.
sea cucumber | Molpadia spp | Molpadiidae | HOLOTHUROIDEA.
sea cucumber | Paradota spp | Chiridotidae | HOLOTHUROIDEA.
sea cucumber | Parastichopus spp | Stichopodidae | HOLOTHUROIDEA.
sea cucumber | Pearsonothuria spp | Holothuriidae | HOLOTHUROIDEA.
sea cucumber | Pseudocnus spp | Cucumariidae | HOLOTHUROIDEA.
sea cucumber | Pseudostichopus spp | Synallactidae | HOLOTHUROIDEA.
sea cucumber | Psolidium spp | Psolidae | HOLOTHUROIDEA.
sea cucumber | Psolus spp | Psolidae | HOLOTHUROIDEA.
sea cucumber | Staurocucumis spp | Cucumariidae | HOLOTHUROIDEA.
sea cucumber | Stichopus spp | Stichopodidae | HOLOTHUROIDEA.
sea cucumber | Thelenota spp | Stichopodidae | HOLOTHUROIDEA.
sea cucumber | Trachythyone spp | Cucumariidae | HOLOTHUROIDEA.
All Shark Species (excluding skates and rays), including the below list from the Food and Agricultural Organization
sharks | Aculeola spp | Squalidae | SQUALIFORMES.
sharks | Alopias spp | Alopiidae | LAMNIFORMES.
sharks | Apristurus spp | Scyliorhinidae | CARCHARHINIFORMES.
sharks | Asymbolus spp | Scyliorhinidae | CARCHARHINIFORMES.
sharks | Atelomycterus spp | Scyliorhinidae | CARCHARHINIFORMES.
sharks | Aulohalaelurus spp | Scyliorhinidae | CARCHARHINIFORMES.
sharks | Brachaelurus spp | Brachaeluridae | ORECTOLOBIFORMES.
sharks | Carcharhinus spp | Carcharhinidae | CARCHARHINIFORMES.
sharks | Carcharias spp | Odontaspididae | LAMNIFORMES.
sharks | Carcharodon spp | Lamnidae | LAMNIFORMES.
sharks | Centrophorus spp | Squalidae | SQUALIFORMES.
sharks | Centroscyllium spp | Squalidae | SQUALIFORMES.
sharks | Centroscymnus spp | Squalidae | SQUALIFORMES.
sharks | Cephaloscyllium spp | Scyliorhinidae | CARCHARHINIFORMES.
sharks | Cephalurus spp | Scyliorhinidae | CARCHARHINIFORMES.
sharks | Cetorhinus spp | Cetorhinidae | LAMNIFORMES.
sharks | Chaenogaleus spp | Hemigaleidae | CARCHARHINIFORMES.
sharks | Chiloscyllium spp | Hemiscylliidae | ORECTOLOBIFORMES.
sharks | Chlamydoselachus spp | Chlamydoselachidae | HEXANCHIFORMES.
sharks | Cirrhigaleus spp | Squalidae | SQUALIFORMES.
sharks | Cirrhoscyllium spp | Parascylliidae | ORECTOLOBIFORMES.
sharks | Ctenacis spp | Proscylliidae | CARCHARHINIFORMES.
sharks | Dalatias spp | Squalidae | SQUALIFORMES.
sharks | Deania spp | Squalidae | SQUALIFORMES.
sharks | Echinorhinus spp | Echinorhinidae | SQUALIFORMES.
sharks | Eridacnis spp | Proscylliidae | CARCHARHINIFORMES.
sharks | Etmopterus spp | Squalidae | SQUALIFORMES.
sharks | Eucrossorhinus spp | Orectolobidae | ORECTOLOBIFORMES.
sharks | Euprotomicroides spp | Squalidae | SQUALIFORMES.
sharks | Euprotomicrus spp | Squalidae | SQUALIFORMES.
sharks | Eusphyra spp | Sphyrnidae | CARCHARHINIFORMES.
sharks | Furgaleus spp | Triakidae | CARCHARHINIFORMES.
sharks | Galeocerdo spp | Carcharhinidae | CARCHARHINIFORMES.
sharks | Galeorhinus spp | Triakidae | CARCHARHINIFORMES.
sharks | Galeus spp | Scyliorhinidae | CARCHARHINIFORMES.
sharks | Ginglymostoma spp | Ginglymostomatidae | ORECTOLOBIFORMES.
sharks | Glyphis spp | Carcharhinidae | CARCHARHINIFORMES.
sharks | Gogolia spp | Triakidae | CARCHARHINIFORMES.
sharks | Gollum spp | Pseudotriakidae | CARCHARHINIFORMES.
sharks | Halaelurus spp | Scyliorhinidae | CARCHARHINIFORMES.
sharks | Haploblepharus spp | Scyliorhinidae | CARCHARHINIFORMES.
sharks | Hemigaleus spp | Hemigaleidae | CARCHARHINIFORMES.
sharks | Hemipristis spp | Hemigaleidae | CARCHARHINIFORMES.
sharks | Hemiscyllium spp | Hemiscylliidae | ORECTOLOBIFORMES.
sharks | Hemitriakis spp | Triakidae | CARCHARHINIFORMES
sharks | Heptranchias spp | Hexanchidae | HEXANCHIFORMES.
sharks | Heterodontus spp | Heterodontidae | HETERODONTIFORMES.
sharks | Heteroscyllium spp | Brachaeluridae | ORECTOLOBIFORMES.
sharks | Heteroscymnoides spp | Squalidae | SQUALIFORMES.
sharks | Hexanchus spp | Hexanchidae | HEXANCHIFORMES.
sharks | Holohalaelurus spp | Scyliorhinidae | CARCHARHINIFORMES.
sharks | Hypogaleus spp | Triakidae | CARCHARHINIFORMES.
sharks | Iago spp | Triakidae | CARCHARHINIFORMES.
sharks | Isistius spp | Squalidae | SQUALIFORMES.
sharks | Isogomphodon spp | Carcharhinidae | CARCHARHINIFORMES.
sharks | Isurus spp | Lamnidae | LAMNIFORMES.
sharks | Lamiopsis spp | Carcharhinidae | CARCHARHINIFORMES.
sharks | Lamna spp | Lamnidae | LAMNIFORMES.
sharks | Leptocharias spp | Leptochariidae | CARCHARHINIFORMES.
sharks | Loxodon spp | Carcharhinidae | CARCHARHINIFORMES.
sharks | Megachasma spp | Megachasmidae | LAMNIFORMES.
sharks | Mitsukurina spp | Mitsukurinidae | LAMNIFORMES.
sharks | Mustelus spp | Triakidae | CARCHARHINIFORMES.
sharks | Nasolamia spp | Carcharhinidae | CARCHARHINIFORMES.
sharks | Nebrius spp | Ginglymostomatidae | ORECTOLOBIFORMES.
sharks | Negaprion spp | Carcharhinidae | CARCHARHINIFORMES.
sharks | Notorynchus spp | Hexanchidae/Notorynchidae | HEXANCHIFORMES.
sharks | Odontaspis spp | Odontaspididae | LAMNIFORMES.
sharks | Orectolobus spp | Orectolobidae | ORECTOLOBIFORMES.
sharks | Oxynotus spp | Oxynotidae | SQUALIFORMES.
sharks | Paragaleus spp | Hemigaleidae | CARCHARHINIFORMES.
sharks | Parascyllium spp | Parascylliidae | ORECTOLOBIFORMES.
sharks | Parmaturus spp | Scyliorhinidae | CARCHARHINIFORMES.
sharks | Pentanchus spp | Scyliorhinidae | CARCHARHINIFORMES.
sharks | Pliotrema spp | Pristiophoridae | PRISTIOPHORIFORMES.
sharks | Poroderma spp | Scyliorhinidae | CARCHARHINIFORMES.
sharks | Prionace spp | Carcharhinidae | CARCHARHINIFORMES.
sharks | Pristiophorus spp | Pristiophoridae | PRISTIOPHORIFORMES.
sharks | Proscyllium spp | Proscylliidae | CARCHARHINIFORMES.
sharks | Pseudocarcharias spp | Pseudocarchariidae | LAMNIFORMES.
sharks | Pseudotriakis spp | Pseudotriakidae | CARCHARHINIFORMES.
sharks | Rhincodon spp | Rhincodontidae | ORECTOLOBIFORMES.
sharks | Rhizoprionodon spp | Carcharhinidae | CARCHARHINIFORMES.
sharks | Schroederichthys spp | Scyliorhinidae | CARCHARHINIFORMES.
sharks | Scoliodon spp | Carcharhinidae | CARCHARHINIFORMES.
sharks | Scyliorhinus spp | Scyliorhinidae | CARCHARHINIFORMES.
sharks | Scylliogaleus spp | Triakidae | CARCHARHINIFORMES.
sharks | Scymnodalatias spp | Squalidae | SQUALIFORMES.
sharks | Scymnodon spp | Squalidae | SQUALIFORMES.
sharks | Somniosus spp | Squalidae | SQUALIFORMES.
sharks | Sphyrna spp | Sphyrnidae | CARCHARHINIFORMES.
sharks | Squaliolus spp | Squalidae | SQUALIFORMES.
sharks | Squalus spp | Squalidae | SQUALIFORMES.
sharks | Squatina spp | Squatinidae | SQUALIFORMES.
sharks | Stegostoma spp | Stegostomatidae | ORECTOLOBIFORMES.
sharks | Sutorectus spp | Orectolobidae | ORECTOLOBIFORMES.
sharks | Triaenodon spp | Carcharhinidae | CARCHARHINIFORMES.
sharks | Triakis spp | Triakidae | CARCHARHINIFORMES.
All Shrimp Species in the Order Decapoda, including the below list from the Food and Agricultural Organization
shrimps | Acanthephyra spp | Oplophoridae | Decapoda (NATANTIA).
shrimps | Acetes spp | Sergestidae | Decapoda (NATANTIA).
shrimps | Alpheus spp | Alpheidae | Decapoda (NATANTIA).
shrimps | Argis spp | Crangonidae | Decapoda (NATANTIA).
shrimps | Aristaeomorpha spp | Aristaeidae | Decapoda (NATANTIA).
shrimps | Aristaeopsis spp | Crangonidae | Decapoda (NATANTIA).
shrimps | Aristeus spp | Aristaeidae | Decapoda (NATANTIA).
shrimps | Artemesia spp | Penaeidae | Decapoda (NATANTIA).
shrimps | Atya spp | Atyidae | Decapoda (NATANTIA).
shrimps | Atyopsis spp | Atyidae | Decapoda (NATANTIA).
shrimps | Atypopenaeus spp | Penaeidae | Decapoda (NATANTIA).
shrimps | Bentheogennema spp | Benthesicymidae | Decapoda (NATANTIA).
shrimps | Benthesicymus spp | Benthesicymidae | Decapoda (NATANTIA).
shrimps | Campylonotus spp | Campylonotidae | Decapoda (NATANTIA).
shrimps | Caridina spp | Atyidae | Decapoda (NATANTIA).
shrimps | Chlorotocus spp | Pandalidae | Decapoda (NATANTIA).
shrimps | Crangon spp | Crangonidae | Decapoda (NATANTIA).
shrimps | Cryphiops spp | Palaemonidae | Decapoda (NATANTIA).
shrimps | Cryptopenaeus spp | Solenoceridae | Decapoda (NATANTIA).
shrimps | Dichelopandalus spp | Pandalidae | Decapoda (NATANTIA).
shrimps | Eualus spp | Hippolytidae | Decapoda (NATANTIA).
shrimps | Exhippolysmata spp | Hippolytidae | Decapoda (NATANTIA).
shrimps | Exopalaemon spp | Palaemonidae | Decapoda (NATANTIA).
shrimps | Farfantepenaeus spp (now Penaeus) | Penaeidae | Decapoda (NATANTIA).
shrimps | Fenneropenaeus spp (now Penaeus) | Penaeidae | Decapoda (NATANTIA).
shrimps | Glyphocrangon spp | Glyphocrangonidae | Decapoda (NATANTIA).
shrimps | Glyphus spp | Pasiphaeidae | Decapoda (NATANTIA).
shrimps | Hadropenaeus spp | Solenoceridae | Decapoda (NATANTIA).
shrimps | Haliporoides spp | Solenoceridae | Decapoda (NATANTIA).
shrimps | Heptacarpus spp | Hippolytidae | Decapoda (NATANTIA).
shrimps | Heterocarpoides spp | Pandalidae | Decapoda (NATANTIA).
shrimps | Heterocarpus spp | Pandalidae | Decapoda (NATANTIA).
shrimps | Holthuispenaeopsis spp | Penaeidae | Decapoda (NATANTIA).
shrimps | Hymenocera spp | Gnatophyllidae | Decapoda (NATANTIA).
shrimps | Hymenodora spp | Oplophoridae | Decapoda (NATANTIA).
shrimps | Hymenopenaeus spp | Solenoceridae | Decapoda (NATANTIA).
shrimps | Latreutes spp | Hippolytidae | Decapoda (NATANTIA).
shrimps | Leandrites spp | Palaemonidae | Decapoda (NATANTIA).
shrimps | Leptocarpus spp | Palaemonidae | Decapoda (NATANTIA).
shrimps | Leptochela spp | Pasiphaeidae | Decapoda (NATANTIA).
shrimps | Lipkebe spp | Palaemonidae | Decapoda (NATANTIA).
shrimps | Lipkius spp | Nematocarcinidae | Decapoda (NATANTIA).
shrimps | Litopenaeus spp | Penaeidae | Decapoda (NATANTIA).
shrimps | Lysmata spp | Hippolytidae | Decapoda (NATANTIA).
shrimps | Macrobrachium spp | Palaemonidae | Decapoda (NATANTIA).
shrimps | Macropetasma spp | Penaeidae | Decapoda (NATANTIA).
shrimps | Marsupenaeus spp | Penaeidae | Decapoda (NATANTIA).
shrimps | Melicertus spp | Penaeidae | Decapoda (NATANTIA).
shrimps | Mesopaeneus spp | Solenoceridae | Decapoda (NATANTIA).
shrimps | Metacrangon spp | Crangonidae | Decapoda (NATANTIA).
shrimps | Metapenaeopsis spp | Penaeidae | Decapoda (NATANTIA).
shrimps | Metapenaeus spp | Penaeidae | Decapoda (NATANTIA).
shrimps | Microprosthema spp | Stenopodidae | Decapoda (NATANTIA).
shrimps | Nematocarcinus spp | Nematocarcinidae | Decapoda (NATANTIA).
shrimps | Nematopalaemon spp | Palaemonidae | Decapoda (NATANTIA).
shrimps | Notocrangon spp | Crangonidae | Decapoda (NATANTIA).
shrimps | Notostomus spp | Oplophoridae | Decapoda (NATANTIA).
shrimps | Ogyrides spp | Ogyrididae | Decapoda (NATANTIA).
shrimps | Oplophorus spp | Oplophoridae | Decapoda (NATANTIA).
shrimps | Palaemon spp | Palaemonidae | Decapoda (NATANTIA).
shrimps | Palaemonetes spp | Palaemonidae | Decapoda (NATANTIA).
shrimps | Pandalopsis spp | Pandalidae | Decapoda (NATANTIA).
shrimps | Pandalus spp | Pandalidae | Decapoda (NATANTIA).
shrimps | Pantomus spp | Pandalidae | Decapoda (NATANTIA).
shrimps | Paracrangon spp | Crangonidae | Decapoda (NATANTIA).
shrimps | Parapandalus spp | Pandalidae | Decapoda (NATANTIA).
shrimps | Parapenaeopsis spp | Penaeidae | Decapoda (NATANTIA).
shrimps | Parapenaeus spp | Penaeidae | Decapoda (NATANTIA).
shrimps | Paratya spp | Atyidae | Decapoda (NATANTIA).
shrimps | Pasiphaea spp | Pasiphaeidae | Decapoda (NATANTIA).
shrimps | Penaeopsis spp | Penaeidae | Decapoda (NATANTIA).
shrimps | Penaeus spp | Penaeidae | Decapoda (NATANTIA).
shrimps | Pleoticus spp | Solenoceridae | Decapoda (NATANTIA).
shrimps | Plesionika spp | Pandalidae | Decapoda (NATANTIA).
shrimps | Plesiopenaeus spp | Aristaeidae | Decapoda (NATANTIA).
shrimps | Pontocaris spp | Crangonidae | Decapoda (NATANTIA).
shrimps | Pontophilus spp | Crangonidae | Decapoda (NATANTIA).
shrimps | Processa spp | Processidae | Decapoda (NATANTIA).
shrimps | Protrachypene spp | Penaeidae | Decapoda (NATANTIA).
shrimps | Rhynchocinetes spp | Rhynchocinetidae | Decapoda (NATANTIA).
shrimps | Saron spp | Hippolytidae | Decapoda (NATANTIA).
shrimps | Sclerocrangon spp | Crangonidae | Decapoda (NATANTIA).
shrimps | Sergestes spp | Sergestidae | Decapoda (NATANTIA).
shrimps | Sicyonia spp | Sicyoniidae | Decapoda (NATANTIA).
shrimps | Solenocera spp | Solenoceridae | Decapoda (NATANTIA).
shrimps | Spirontocaris spp | Hippolytidae | Decapoda (NATANTIA).
shrimps | Stenopus spp | Stenopodidae | Decapoda (NATANTIA).
shrimps | Systellaspis spp | Oplophoridae | Decapoda (NATANTIA).
shrimps | Trachypenaeus spp | Penaeidae | Decapoda (NATANTIA).
shrimps | Trachysalambria spp | Penaeidae | Decapoda (NATANTIA).
shrimps | Xiphopenaeus spp | Penaeidae | Decapoda (NATANTIA).
skipjack tuna | Katsuwonus pelamis | Scombridae | SCOMBROIDEI.
yellowfin tuna | Thunnus albacares | Scombridae | SCOMBROIDEI.
swordfish | Xiphias gladiatus | Xiphiidae | SCOMBROIDEI.

Dated: October 27, 2015.
Samuel D. Rauch III,
Deputy Assistant Administrator for Regulatory Programs, National Marine Fisheries Service.

[FR Doc. 2015-27780 Filed 10-29-15; 8:45 am]

BILLING CODE 3510-22-P